DEPARTMENT OF THE INTERIOR

Office of the Secretary

Renewal of the Sporting Conservation Council

AGENCY: Office of the Secretary, Interior.

ACTION: Notice of renewal.

SUMMARY: This notice is published in accordance with section 9a(2) of the Federal Advisory Committee Act. Following consultation with the General Services Administration, the Secretary of the Interior hereby renews the Sporting Conservation Council for 2 years.

DATES: The Council's charter will be filed under the Act March 26, 2008.

FOR FURTHER INFORMATION CONTACT: Phyllis T. Seitts, 602-906-5603.

SUPPLEMENTARY INFORMATION: The Council provides advice and guidance to the Federal Government through the Department of the Interior and the Department of Agriculture on how to increase public awareness of the importance of wildlife resources and the social and economic benefits of recreational hunting. The purpose of the Council is to advise the Secretary of the Interior and the Secretary of Agriculture about wildlife conservation endeavors that benefit recreational hunting and wildlife resources and that encourage partnerships among the public, the sportsman conservation community, and Federal and State Governments.

Council membership includes representatives from State fish and wildlife agencies, game bird hunting organizations, wildlife conservation organizations, big game hunting organizations, and the hunting community.

The Council functions solely as an advisory body and in compliance with the provisions of the Federal Advisory Committee Act (5 U.S.C. Appendix 2). The certification is published below.

Certification

I hereby certify that the renewal of the Sporting Conservation Council is necessary and in the public interest in connection with the performance of duties by the Department of the Interior mandated pursuant to 43 U.S.C. 1457 and provisions of the Fish and Wildlife Act of 1956 (16 U.S.C. 742a-742j).

Dated: February 29, 2008.
Dirk Kempthorne,
Secretary of the Interior.

[FR Doc. E8-4857 Filed 3-10-08; 8:45 am]

BILLING CODE 4310-55-P